NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on May 2-4, 2002, in Conference Room T-2B3, 11545 Rockville Pike, Rockville, Maryland. The date of this meeting was previously published in the Federal Register on Monday, November 26, 2001 (66 FR 59034).

Thursday, May 2, 2002

8:30 a.m.-8:35 a.m.: Opening Remarks by the ACRS Chairman (Open)—The ACRS Chairman will make opening remarks regarding the conduct of the meeting.

8:35 a.m.-10:30 a.m.: Brunswick Steam Electric Plant, Units 1 & 2 Core Power Uprate (Open/Closed)—The Committee will hear presentations by and hold discussions with representatives of the NRC staff and the Carolina Power and Light Company regarding the license amendment to increase core power level by approximately 15% for the Brunswick Steam Electric Plant, Units 1 & 2, pursuant to the General Electric Nuclear Energy Extended Power Uprate Program.

[Note: A portion of this session may be closed to discuss General Electric proprietary information.]

10:45 a.m.-11:45 a.m.: Expert Panel Recommendations on Source Term for High Burnup and Mixed Oxide (MOX) Fuel (Open)—The Committee will hear presentations by and hold discussions with representatives of the NRC staff regarding the Expert Panel's recommendations on source term for high burnup and MOX fuel and on revising NUREG-1465, “Accident Source Terms for Light-Water Nuclear Power Plants.”

12:45 p.m.-1:45 p.m.: Confirmatory Research Program on High Burnup Fuel (Open)—The Committee will hear presentations by and hold discussions with representatives of the Office of Nuclear Reactor Regulation and the Office of Nuclear Regulatory Research regarding their views on the need for the confirmatory research program on high burnup fuel.

1:45 p.m.-2:45 p.m.: Subcommittee Report (Open)—Report by the Chairman of the ACRS Subcommittee on Reactor Fuels regarding the staff's draft Safety Evaluation Report on the Duke Cogema Stone & Webster application for a construction authorization for a proposed MOX Fuel Fabrication Facility that was discussed during the April 10, 2002 Subcommittee meeting, and other related matters.

3 p.m.-6:15 p.m.: Safeguards and Security Activities (Closed)—The Committee will hear presentations by and hold discussions with representatives of the NRC staff regarding ongoing and planned NRC activities in the safeguards and security areas.

[Note: The entire session will be closed to protect national security information and safeguards information.]

6:30 p.m.-7:15 p.m.: Proposed ACRS Reports (Open)—The Committee will discuss proposed ACRS reports on matters considered during this meeting.

Friday, May 3, 2002

8:30 a.m.-8:35 a.m.: Opening Remarks by the ACRS Chairman (Open)—The ACRS Chairman will make opening remarks regarding the conduct of the meeting.

8:35 a.m.-11:30 A.M. : PHEBUS-FP, PHEBUS-2K and PHEBUS-LOCA International Projects (Open)—The Committee will hear presentations by and hold discussions with representatives of the French PHEBUS-FP Project regarding the recent results of the PHEBUS-FP Project and plans for the PHEBUS-2K and PHEBUS-LOCA Projects.

11:45 a.m.-12:30 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

1:30 p.m.-1:45 p.m.: Reconciliation of ACRS Comments and Recommendations (Open)—The Committee will discuss the responses from the NRC Executive Director for Operations (EDO) to comments and recommendations included in recent ACRS reports and letters. The EDO responses are expected to be made available to the Committee prior to the meeting.

1:45 p.m.-7:00 p.m.: Proposed ACRS Reports (Open)—The Committee will discuss proposed ACRS reports.

Saturday, May 4, 2002

8:30 a.m.-12:30 p.m.: Proposed ACRS Reports (Open)—The Committee will continue its discussion of proposed ACRS reports.

12:30 p.m.-1:00 p.m.: Miscellaneous (Open)—The Committee will discuss matters related to the conduct of Committee activities and matters and specific issues that were not completed during previous meetings, as time and availability of information permit.

Procedures for the conduct of and participation in ACRS meetings were published in the Federal Register on October 3, 2001 (66 FR 50462). In accordance with those procedures, oral or written views may be presented by members of the public, including representatives of the nuclear industry. Electronic recordings will be permitted only during the open portions of the meeting and questions may be asked only by members of the Committee, its consultants, and staff. Persons desiring to make oral statements should notify Dr. Sher Bahadur, ACRS, five days before the meeting, if possible, so that appropriate arrangements can be made to allow necessary time during the meeting for such statements. Use of still, motion picture, and television cameras during the meeting may be limited to selected portions of the meeting as determined by the Chairman. Information regarding the time to be set aside for this purpose may be obtained by contacting Dr. Sher Bahadur prior to the meeting. In view of the possibility that the schedule for ACRS meetings may be adjusted by the Chairman as necessary to facilitate the conduct of the meeting, persons planning to attend should check with Dr. Sher Bahadur if such rescheduling would result in major inconvenience.

In accordance with Subsection 10(d) Public Law 92-463, I have determined that it is necessary to close portions of this meeting noted above to discuss proprietary information per 5 U.S.C. 552b(c)(4), to protect national security information per 5 U.S.C. 552b(c)(1), and to protect safeguards information per 5 U.S.C. 552b(c)(3).

Further information regarding topics to be discussed, whether the meeting has been canceled or rescheduled, the Chairman's ruling on requests for the opportunity to present oral statements, and the time allotted therefor can be obtained by contacting Dr. Sher Bahadur (telephone 301-415-0138), between 7:30 a.m. and 4:15 p.m., EDT.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/NRC/ADAMS/index.html.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment and facilities that they use to establish the videoteleconferencing link. The availability of videoteleconferencing services is not guaranteed.

Dated: April 18, 2002.
Andrew L. Bates,
Advisory Committee Management Officer.

[FR Doc. 02-9993 Filed 4-23-02; 8:45 am]

BILLING CODE 7590-01-P